SMALL BUSINESS ADMINISTRATION

Small Business Size Standards: Waiver of the Nonmanufacturer Rule

AGENCY: U.S. Small Business Administration.

ACTION: Notice of intent to waive the Nonmanufacturer Rule for Herbicides, Insecticides, and Fungicides, under Product Service Code (PSC) 6840, under North American Industry Classification System (NAICS) code 325320, Pesticide and Other Agricultural Chemical Manufacturing.

SUMMARY: The U. S. Small Business Administration (SBA) is considering granting a waiver of the Nonmanufacturer Rule for Herbicides, Insecticides, and Fungicides, under PSC 6840, under NAICS code 325120. According to a request, no small business manufacturers supply these products to the Federal government. If granted, the waiver would allow an otherwise qualified small businesses to supply the products of any manufacturer on a Federal contract set aside for small businesses, service-disabled veteran-owned small businesses, or Participants in the SBA's 8(a) Business Development (BD) Program.

DATES: Comments and source information must be submitted June 3, 2010.

ADDRESSES: You may submit comments and source information to Amy Garcia, Program Analyst, U.S. Small Business Administration, Office of Government Contracting, 409 3rd Street, SW., Suite 8800, Washington, DC 20416.

FOR FURTHER INFORMATION CONTACT: Amy Garcia, by telephone at (202) 205-6842; by FAX at (202) 481-1630; or by e-mail at Amy.garcia@sba.gov.

SUPPLEMENTARY INFORMATION: Section 8(a)(17) of the Small Business Act (Act), 15 U.S.C. 637(a)(17), and SBA's implementing regulations require that recipients of Federal contracts set aside for small businesses, service-disabled veteran-owned small businesses, or Participants in the SBA's 8(a) BD Program provide the product of a small business manufacturer or processor, if the recipient is other than the actual manufacturer or processor of the product. This requirement is commonly referred to as the Nonmanufacturer Rule. 13 CFR 121.406(b). Section 8(a)(17)(b)(iv) of the Act authorizes SBA to waive the Nonmanufacturer Rule for any “class of products” for which there are no small business manufacturers or processors available to participate in the Federal market. In order to be considered available to participate in the Federal market for a class of products, a small business manufacturer must have submitted a proposal for a contract solicitation or received a contract from the Federal government within the last 24 months. 13 CFR 121.1202(c). The SBA defines “class of products” based on the Office of Management and Budget's NAICS system and PSC to further identify particular products within the NAICS code to which a waiver would apply.

The public is invited to comment or provide source information to SBA on the proposed waiver of the Nonmanufacturer Rule for this class of product within 15 days after date of publication in the Federal Register.

Karen Hontz,
Director, Office of Government Contracting.

[FR Doc. 2010-11929 Filed 5-18-10; 8:45 am]

BILLING CODE 8025-01-P